DEPARTMENT OF TRANSPORTATION

Federal Aviation Administration

Agency Information Collection Activities Under OMB Review

AGENCY: Federal Aviation administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of currently approved collections. The ICR describes the nature of the information collection and its expected burden. The Federal Register Notice with a 60-day comment period soliciting comments on the following collections of information was published on January 14, 2000, [FR 65, page 2454].

DATES: Comments must be submitted on of before May 1, 2000. A comment to OMB is most effective if OMB receives it within 30 days of publication.

FOR FURTHER INFORMATION CONTACT: Judy Street on (202) 267-9895.

SUPPLEMENTARY INFORMATION: 1. Title: Commercial Space Transportation Licensing Regulations.

Type of Request: Extension of a currently approved collection.

Control Number: 2120-0608.

Form(s): N/A.

Affected Public: An estimated 6 licensees authorized to conduct licensed launch activities.

Abstract: The required information will be used to determine if applicant proposals for conducting commercial space launches can be accomplished in a safe manner according to regulations and license orders issued by the Office of the Associate Administrator for Commercial Space Transportation.

Estimated Annual Burden Hours: 3236.

2. Title: Changes in Permissible Stage 2 Airplane Operations.

Type of Request: Extension of a currently approved collection.

OMB Control Number: 2120-0652.

Form(s): N/A.

Affected Public: 100 operators.

Abstract: Public Law amended the Airport Noise and Capacity Act (ANCA) of 1990. The primary focus of ANCA was the prohibition on stage 2 airplane flights in the contiguous U.S. after 12/31/99. The changes to ANCA give the FAA new authority to allow certain non-revenue Stage 2 flights after the statutory compliance date. Operators need a special flight authorization to bring Stage 2 airplanes into the United States. Operators only need to provide information when they need a special flight authorization after 12/31/99. Only minimal amount of data is requested to identify the affected parties and determine whether the purpose for the flight is only of the ones enumerated in the law.

Estimated Annual Burden Hours: 25 burden hours annually.

Address

Send comments to the Office of Information and Regulatory Affairs, Office of Management and Budget, 725-17th Street, NW, Washington, DC 20503, Attention: FAA Desk Officer.

Comments Are Invited On

Whether the proposed collections of information are necessary for the proper performance of the functions of the Department, including whether the information will have practical utility; the accuracy of the Department's estimate of the burden of the proposed information collections; ways to enhance the quality, utility and clarity of the information to be collected; and ways to minimize the burden of the collections of information on respondents, including the use of automated collection techniques or other forms of information technology.

Issued in Washington, DC, on March 24, 2000.
Patricia W. Carter,
Acting Manager, Standards and Information Division, APF-100.

[FR Doc. 00-7857 Filed 3-29-00; 8:45 am]

BILLING CODE 4910-13-M